DEPARTMENT OF COMMERCE

International Trade Administration

[A-201-849]

Refillable Stainless Steel Kegs From Mexico: Final Affirmative Determination of Sales at Less Than Fair Value and Final Affirmative Determination of Critical Circumstances

AGENCY: Enforcement and Compliance, International Trade Administration, Department of Commerce.

SUMMARY: The Department of Commerce (Commerce) determines that refillable stainless steel kegs (kegs) from Mexico are being, or are likely to be, sold in the United States at less than fair value (LTFV). The period of investigation (POI) is July 1, 2017 through June 30, 2018. The final estimated dumping margins of sales at LTFV are shown in the “Final Determination” section of this notice.

DATES: Applicable August 19, 2019.

FOR FURTHER INFORMATION CONTACT: Allison Hollander or Minoo Hatten, Enforcement and Compliance, International Trade Administration, U.S. Department of Commerce, 1401 Constitution Avenue NW, Washington, DC 20230; telephone: (202) 482-2805 or (202) 482-1690, respectively.

SUPPLEMENTARY INFORMATION:

Background

On June 4, 2019, Commerce published the Preliminary Determination of this LTFV investigation in which Commerce found that kegs from Mexico were sold at LTFV.¹ On May 2, 2019, Commerce published the Preliminary Critical Circumstances Determination in which Commerce found that critical circumstances exist for imports of kegs from Mexico.² We invited interested parties to comment on both determinations in the Preliminary Determination. We received no comments from interested parties.

¹ See Refillable Stainless Steel Kegs From Mexico: Preliminary Affirmative Determination of Sales at Less Than Fair Value, 84 FR 25738 (June 4, 2019) (Preliminary Determination).

² See Antidumping Duty Investigation on Refillable Stainless Steel Kegs From Mexico: Preliminary Affirmative Determination of Critical Circumstances, 84 FR 18796 (May 2, 2019) (Preliminary Critical Circumstances Determination).

Scope of the Investigation

The products covered by this investigation are refillable stainless steel kegs from Mexico. For a complete description of the scope of this investigation, see the appendix to this notice.

Scope Comments

On March 29, 2019, we issued a Preliminary Scope Decision Memorandum.³ The scope case briefs were due on May 6, 2019.⁴ We did not receive scope case briefs from interested parties. Therefore, Commerce has made no changes to the scope of this investigation since the Preliminary Determination.

³ See Memorandum, “Refillable Stainless Steel Kegs from the People's Republic of China, Germany, and Mexico: Scope Comments Decision Memorandum for the Preliminary Determinations,” dated March 29, 2019 (Preliminary Scope Decision Memorandum).

⁴ The scope case briefs were due 30 days after the publication of Refillable Stainless Steel Kegs from the People's Republic of China: Preliminary Affirmative Countervailing Duty Determination and Alignment of Final Determination With Final Antidumping Duty Determination, 84 FR 13634 (April 5, 2019). See Preliminary Scope Decision Memorandum at 5. Because the deadline fell on Sunday, May 5, 2019, the actual deadline for the scope case briefs was Monday, May 6, 2019. See 19 CFR 351.303(b)(1) (“For both electronically filed and manually filed documents, if the applicable due date falls on a non-business day, the Secretary will accept documents that are filed on the next business day.”). The deadline for scope rebuttal briefs was Monday, May 13, 2019.

Verification

Because the mandatory respondent in this investigation did not provide the information requested, Commerce did not conduct verification.⁵

⁵ See Preliminary Determination, 84 FR at 25740.

Analysis of Comments Received

As stated above, we did not receive comments in response to the Preliminary Determination. For the final determination, Commerce has made no changes to the Preliminary Determination.

Use of Adverse Facts Available

We continue to find, as stated in the Preliminary Determination, that THIELMANN Mexico S.A. de C.V. (THIELMANN), Portinox Mexico S.A. de C.V. (Portinox), and Geodis Wilson Mexico S.A. de C.V. (Geodis Wilson) withheld requested information, failed to provide information by the specified deadlines, and significantly impeded the proceeding, pursuant to section 776(a) of the Tariff Act of 1930, as amended (the Act).⁶ Further, we continue to find that THIELMANN, Portinox, and Geodis Wilson failed to cooperate to the best of their abilities to comply with our requests for information, and, accordingly, we continue to apply an adverse inference when selecting from among the facts otherwise available to determine the relevant dumping margins, in accordance with section 776(b) of the Act.⁷ We further continue to select the only dumping margin alleged in the Petition ⁸ as the rate applicable to THIELMANN, Portinox, and Geodis Wilson.⁹

⁶ See Memorandum, “Decision Memorandum for the Preliminary Determination in the Less-Than-Fair-Value Investigation of Refillable Stainless Steel Kegs from Mexico,” dated May 28, 2019 (Preliminary Decision Memorandum) at 5-7.

⁷ Id.

⁸ See Petitioner's Letter, “Petitions for the Imposition of Antidumping Duties on Imports of Refillable Stainless Steel Kegs from Germany, Mexico, and the People's Republic of China and Countervailing Duties on Imports of Refillable Stainless Steel Kegs from the People's Republic of China,” dated September 20, 2018 (Petition), at 11; see also Petitioner's Letter, “Supplement to the Petition for the Imposition of Antidumping Duties on Imports of Refillable Stainless Steel Kegs from Mexico: Response to the Department's Supplemental Questions,” dated October 2, 2018 (Third Supplement to the Petition), at 6.

⁹ See Preliminary Decision Memorandum at 7.

Final Affirmative Determination of Critical Circumstances

In accordance with section 733(e) of the Act and 19 CFR 351.206, we preliminarily determined that critical circumstances exist with respect to the mandatory respondent, THIELMANN, and all other companies.¹⁰ As stated above, Commerce did not receive any comments in response to the preliminary determination. Thus, for this final determination, we find that, in accordance with section 735(a)(3) of the Act and 19 CFR 351.206, critical circumstances exist for imports of kegs from Mexico exported by THIELMANN and imports of kegs from Mexico produced and/or exported by all other companies.

¹⁰ For a full description of the methodology and results of Commerce's critical circumstances analysis, see Preliminary Critical Circumstances Determination.

All-Others Rate

As discussed in the Preliminary Determination, we continue to assign the dumping margin alleged in the Petition¹¹ and selected as the dumping margin for the sole mandatory respondent, THIELMANN, as the all-others rate applicable to all exporters and/or producers not individually examined.¹²

¹¹ See Petition at 11; see also Third Supplement to the Petition at 6.

¹² For a full description of the methodology underlying Commerce's analysis, see Preliminary Decision Memorandum.

Final Determination

Commerce determines that the following estimated weighted-average dumping margins exist:

Producer/exporter | Weighted- average dumping margin (percent)
THIELMANN Mexico S.A. de C.V | 18.48
Portinox Mexico S.A. de C.V | 18.48
Geodis Wilson Mexico S.A. de C.V | 18.48
All Others | 18.48

Continuation of Suspension of Liquidation

For entries made by THIELMANN and all other companies, in accordance with section 735(c)(4)(A) of the Act, because we continue to find that critical circumstances exist with respect to THIELMANN and all other producers and/or exporters, we will instruct U.S. Customs and Border Protection (CBP) to continue to suspend liquidation of any unliquidated entries of shipments of subject merchandise which were entered, or withdrawn from warehouse, for consumption on or after March 6, 2019, which is 90 days prior to the publication of the Preliminary Determination.

Pursuant to section 735(c)(l) of the Act and 19 CFR 351.210(d), Commerce will instruct CBP to require cash deposits equal to the weighted-average dumping margins indicated in the table above as follows: (1) The cash deposit rate for the respondents listed above will be equal to the company-specific estimated weighted-average dumping margins determined in this final determination; (2) if the exporter is not a respondent identified above, but the producer is, then the cash deposit rate will be equal to the company-specific estimated weighted-average dumping margin established for that producer of the subject merchandise; and (3) the cash deposit rate for all other producers and exporters will be 18.48 percent, the all-others estimated weighted-average dumping margin. These suspension of liquidation and cash deposit instructions will remain in effect until further notice.

Disclosure

Normally, Commerce discloses to interested parties the calculations performed in connection with a final determination within five days of any public announcement or, if there is no public announcement, within five days of the date of publication of the notice of final determination in the Federal Register, in accordance with 19 CFR 351.224(b). However, because Commerce applied adverse facts available (AFA) to the individually examined company THIELMANN, as well as to Portinox and Geodis Wilson, in this investigation, in accordance with section 776 of the Act, and the applied AFA rate is based solely on the Petition, there are no calculations to disclose.

International Trade Commission (ITC) Notification

In accordance with section 735(d) of the Act, Commerce will notify the ITC of its final affirmative determination of sales at LTFV. Because the final determination in this proceeding is affirmative, in accordance with section 735(b)(2) of the Act, the ITC will make its final determination as to whether the domestic industry in the United States is materially injured, or threatened with material injury, by reason of imports of kegs from Mexico no later than 45 days after our final determination. If the ITC determines that material injury or threat of material injury does not exist, the proceeding will be terminated and all cash deposits will be refunded. If the ITC determines that such injury does exist, Commerce will issue an antidumping duty order directing CBP to assess, upon further instruction by Commerce, antidumping duties on all imports of the subject merchandise entered, or withdrawn from warehouse, for consumption on or after the effective date of the suspension of liquidation.

Administrative Protective Orders (APOs)

This notice serves as a reminder to parties subject to APO of their responsibility concerning the disposition of proprietary information disclosed under APO in accordance with 19 CFR 351.305(a)(3). Timely written notification of the return or destruction of APO materials, or conversion to judicial protective order, is hereby requested. Failure to comply with the regulations and the terms of an APO is a violation subject to sanction.

Notification to Interested Parties

This determination and this notice are issued and published pursuant to sections 735(d) and 777(i)(1) of the Act and 19 CFR 352.210(c).

Dated: August 12, 2019.
Jeffrey I. Kessler,
Assistant Secretary for Enforcement and Compliance.

Appendix

Scope of the Investigation

The merchandise covered by this investigation are kegs, vessels, or containers with bodies that are approximately cylindrical in shape, made from stainless steel (i.e., steel containing at least 10.5 percent chromium by weight and less than 1.2 percent carbon by weight, with or without other elements), and that are compatible with a “D Sankey” extractor (refillable stainless steel kegs) with a nominal liquid volume capacity of 10 liters or more, regardless of the type of finish, gauge, thickness, or grade of stainless steel, and whether or not covered by or encased in other materials. Refillable stainless steel kegs may be imported assembled or unassembled, with or without all components (including spears, couplers or taps, necks, collars, and valves), and be filled or unfilled.

“Unassembled” or “unfinished” refillable stainless steel kegs include drawn stainless steel cylinders that have been welded to form the body of the keg and attached to an upper (top) chime and/or lower (bottom) chime. Unassembled refillable stainless steel kegs may or may not be welded to a neck, may or may not have a valve assembly attached, and may be otherwise complete except for testing, certification, and/or marking.

Subject merchandise also includes refillable stainless steel kegs that have been further processed in a third country, including but not limited to, attachment of necks, collars, spears or valves, heat treatment, pickling, passivation, painting, testing, certification or any other processing that would not otherwise remove the merchandise from the scope of the investigation if performed in the country of manufacture of the in-scope refillable stainless steel keg.

Specifically excluded are the following:

(1) Vessels or containers that are not approximately cylindrical in nature (e.g., box, “hopper” or “cone” shaped vessels);

(2) stainless steel kegs, vessels, or containers that have either a “ball lock” valve system or a “pin lock” valve system (commonly known as “Cornelius,” “corny” or “ball lock” kegs);

(3) necks, spears, couplers or taps, collars, and valves that are not imported with the subject merchandise; and

(4) stainless steel kegs that are filled with beer, wine, or other liquid and that are designated by the Commissioner of Customs as Instruments of International Traffic within the meaning of section 332(a) of the Tariff Act of 1930, as amended.

The merchandise covered by this investigation are currently classified in the Harmonized Tariff Schedule of the United States (HTSUS) under subheadings 7310.10.0010, 7310.10.0050, 7310.29.0025, and 7310.29.0050.

These HTSUS subheadings are provided for convenience and customs purposes; the written description of the scope of this investigation is dispositive.

[FR Doc. 2019-17767 Filed 8-16-19; 8:45 am]

BILLING CODE 3510-DS-P